ENVIRONMENTAL PROTECTION AGENCY

[EPA-R04-OW-2013-0728]

Public Water System Supervision Program Revision for the State of North Carolina

AGENCY: U.S. Environmental Protection Agency (EPA).

ACTION: Notice of tentative approval.

SUMMARY: Notice is hereby given that the State of North Carolina is revising its approved Public Water System Supervision Program. North Carolina has adopted the following rules: Long Term 1 Enhanced Surface Water Treatment Rule, Long Term 2 Enhanced Surface Water Treatment Rule, Stage 2 Disinfectants and Disinfection Byproducts Rule, Lead and Copper Rule Short-Term Regulatory Revisions and Clarifications, and Ground Water Rule. The EPA has determined that North Carolina's rules are no less stringent than the corresponding federal regulations. Therefore, the EPA is tentatively approving this revision to the State of North Carolina's Public Water System Supervision Program.

DATES: Any interested person may request a public hearing. A request for a public hearing must be submitted by May 29, 2014, to the Regional Administrator at the EPA Region 4 address shown below. The Regional Administrator may deny frivolous or insubstantial requests for a hearing. However, if a substantial request for a public hearing is made by May 29, 2014, a public hearing will be held. If no timely and appropriate request for a hearing is received and the Regional Administrator does not elect to hold a hearing on her own motion, this tentative approval shall become final and effective on May 29, 2014. Any request for a public hearing shall include the following information: The name, address and telephone number of the individual, organization or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8:30 a.m. and 4:30 p.m., Monday through Friday, at the following offices: North Carolina Department of Environment and Natural Resources, Division of Water Resources, Public Water Supply Section, 512 North Salisbury Street, Raleigh, North Carolina 27601; and the U.S. Environmental Protection Agency Region 4, Safe Drinking Water Branch, 61 Forsyth Street SW., Atlanta, Georgia 30303.

FOR FURTHER INFORMATION CONTACT: Paul Lad, EPA Region 4, Safe Drinking Water Branch, by mail at the Atlanta address given above, by telephone at (404) 562-9458, or by email at lad.paul@epa.gov.

EPA Analysis: On March 3, 2008, the State of North Carolina submitted a request that the Region approve revisions to the State's Safe Drinking Water Act Public Water System Supervision Program to include the authority to implement and enforce the Lead and Copper Rule Short-Term Regulatory Revisions and Clarifications. On November 9, 2009, the State of North Carolina submitted a request that the Region approve revisions to the State's Safe Drinking Water Act Public Water System Supervision Program to include the authority to implement and enforce the Stage 2 Disinfectants and Disinfection Byproducts Rule. On December 18, 2009, the State of North Carolina submitted a request that the Region approve revisions to the State's Safe Drinking Water Act Public Water System Supervision Program to include the authority to implement and enforce the Long Term 1 Enhanced Surface Water Treatment Rule. On December 18, 2009, the State of North Carolina submitted a request that the Region approve revisions to the State's Safe Drinking Water Act Public Water System Supervision Program to include the authority to implement and enforce the Long Term 2 Enhanced Surface Water Treatment Rule. On November 3, 2010, the State of North Carolina submitted a request that the Region approve revisions to the State's Safe Drinking Water Act Public Water System Supervision Program to include the authority to implement and enforce the Ground Water Rule. For the revisions to be approved, the EPA must find the State Rules 15A NCAC 18C .1507, 15A NCAC 18C .2008, 15A NCAC 18C .2007, and 15A NCAC 18C .2202, to be no less stringent than the Federal Rules codified at 40 CFR part 141, Subpart I—Lead and Copper Rule Short-Term Regulatory Revisions and Clarifications; 40 CFR part 141, Subpart V—Stage 2 Disinfectants and Disinfection Byproducts Rule; 40 CFR part 141, Subpart T—Long Term 1 Enhanced Surface Water Treatment Rule; 40 CFR part 141, Subpart W—Long Term 2 Enhanced Surface Water Treatment Rule; and 40 CFR part 141, Subpart S—Ground Water Rule. The EPA reviewed the applications using the Federal statutory provisions (Section 1413 of the Safe Drinking Water Act), Federal regulations (at 40 CFR part 142), State regulations, rule crosswalks, and EPA regulatory guidance to determine whether the requests for revisions are approvable. The EPA determined that the North Carolina revisions are no less stringent than the corresponding Federal regulations.

EPA Action: The EPA is tentatively approving this revision. If the EPA does not receive a timely and appropriate request for a hearing and the Regional Administrator does not elect to hold a hearing on her own motion, this tentative approval will become final and effective on May 29, 2014.

Authority: Section 1413 of the Safe Drinking Water Act, as amended (1996), and 40 CFR part 142.

Dated: April 10, 2014.
Heather McTeer Toney,
Regional Administrator, Region 4.

[FR Doc. 2014-09566 Filed 4-28-14; 8:45 am]

BILLING CODE 6560-50-P